DEPARTMENT OF THE TREASURY

Departmental Offices: Proposed Collections; Comment Requests

ACTION: Notice and request for comments.

SUMMARY: The Department of the Treasury, as part of its continuing effort to reduce paperwork burdens, invites the general public and other Federal agencies to comment on an information collection that is due for renewed approval by the Office of Management and Budget. The Office of Program Services within the Department of the Treasury is soliciting comments concerning Treasury International Capital Forms CQ-1 and CQ-2, Financial and Commercial Liabilities to, and Claims on, Unaffiliated Foreigners.

DATES: Written comments should be received on or before September 3, 2002 to be assured of consideration.

ADDRESSES: Direct all written comments on international capital transactions and positions to: Department of the Treasury, ATTN: Dwight Wolkow, IP Room 4410 NY, 1500 Pennsylvania Avenue NW., Washington DC 20220. In view of delays in mail delivery due to recent events, please also notify Mr. Wolkow by email (dwight.wolkow@do.treas.gov), FAX (202-622-1207) or telephone (202-622-1276).

FOR FURTHER INFORMATION CONTACT: Copies of the proposed forms and instructions are available on the Treasury's TIC webpage for forms, http://www.treas.gov/tic/forms.html. Requests for additional information should be directed to Mr. Wolkow.

SUPPLEMENTARY INFORMATION: Title: Treasury International Capital Form CQ-1, Financial Liabilities to, and Claims on, Foreigners; and Treasury International Capital Form CQ-2, Commercial Liabilities to, and Claims on, Unaffiliated Foreigners.

OMB Number: 1505-0024

Abstract: Forms CQ-1 and CQ-2 are part of the Treasury International Capital (TIC) reporting system, which is required by law (22 U.S.C. 286f; 22 USC 3103; EO 10033; 31 CFR 128), and is designed to collect timely information on international portfolio capital movements. Forms CQ-1 and CQ-2 are quarterly reports filed by nonbanking and non-securities broker and dealer enterprises in the U.S. to report their international portfolio transactions with unaffiliated foreigners. This information is necessary for compiling the U.S. balance of payments accounts, for calculating the U.S. international investment position, and for use in formulating U.S. international financial and monetary policies. Current Actions: (a) The exemption level for reporting positions will be raised from $10 million to $50 million for Form CQ-1, and from $10 million to $25 million for Form CQ-2; (b) The period of time a reporter has to submit reports once the exemption level is exceeded has been changed to the remainder of the current calendar year; (c) For Bank Holding Companies and Financial Holding Companies (BHCs/FHCs), their insurance subsidiaries will continue to file TIC Form CQ-1 reports. (BHCs/FHCs and their other subsidiaries will continue to file TIC-B reports, according to the directions given in the instructions for the TIC B reports); (d) These proposed new C Forms and instructions will be effective as of March 31, 2003; (e) The instructions include a more detailed description of the reporting of liabilities and loans placed overseas; (f) The instructions contain a more detailed description of the reporting of short-term securities (including negotiable CDs); (g) On the revised form, respondents will report brokerage balances. A revised description of brokerage balances is included in the instructions; (h) The revised forms each have four memorandum rows for reporting the amounts contained in the grand totals of each column that are denominated in U.S. dollars, Euros, Pound Sterling, and Yen; (i) Both of the revised forms collect data on remaining maturities of the amounts contained in the grand totals of the two liabilities columns on each form. The maturities are broken down into ten categories; previously, there were two categories. Reporting of maturities will only be required from large reporters (more than $1 billion in reportable liabilities on Form CQ-1); (j) In Form CQ-1, Part I, Financial Liabilities, the two columns are redefined for reporting of Short-term Negotiable Securities and Other Liabilities; (k) In Form CQ-1, Part II, Financial Claims, the currently reported two columns for dollar denominated and foreign currency denominated deposits have been combined, and the resulting three columns in the revised form capture the reporting of Non-Negotiable Foreign Deposits, Negotiable CDs & All Short-term Negotiable Securities, and Other Claims; (l) In Form CQ-1, section B has been added to capture foreign affiliate positions (including those with affiliates of the reporter's parents) of insurance underwriting subsidiaries and financial intermediaries. Insurance underwriting subsidiaries of BHCs/FHCs will report positions vis a vis all foreign-resident affiliates. Financial intermediaries will report positions vis a vis all foreign-resident affiliated financial intermediaries; (m) In Form CQ-1, three new memorandum rows have been added for reporting the amounts contained in the grand totals of certain columns that are Borrowings/Loans, Negotiable CDs, and Repurchases/Resale Agreements.

Type of Review: Revision of a currently approved collection.

Affected Public: Business or other for-profit organizations.

Forms CQ-1 and CQ-2 (1505-0024)

Estimated Number of Respondents: 400

Estimated Average Time per Respondent: Four and one/quarter (4.25) hours per respondent per filing. This average time varies from 4.5 hours for the approximately 190 CQ-1 reporters to 4.0 hours for the approximately 210 CQ-2 reporters.

Estimated Total Annual Burden Hours: 6,800 hours, based on 4 reporting periods per year.

Request for Comments: Comments submitted in response to this notice will be summarized and/or included in the requests for OMB approval. All comments will become a matter of public record. The public is invited to submit written comments concerning: whether Forms CQ-1 and CQ-2 are necessary for the proper performance of the functions of the Office, including whether the information collected has practical uses; the accuracy of the above burden estimates; ways to enhance the quality, usefulness, and clarity of the information to be collected; ways to minimize the reporting and/or recordkeeping burdens on respondents, including the use of information technologies to automate the collection of the data; and estimates of capital or start-up costs of operation, maintenance, and purchases of services to provide information.

Dwight Wolkow,
Administrator, International Portfolio Investment Data Systems.

[FR Doc. 02-16585 Filed 7-1-02; 8:45 am]

BILLING CODE 4810-25-P